DEPARTMENT OF THE INTERIOR

National Park Service

[N6463; NPS-WASO-NAGPRA-NPS0040883; PPWOCRADN0-PCU00RP14.R50000]

Notice of Intended Repatriation: Housatonic Museum of Art, Bridgeport, CT

AGENCY: National Park Service, Interior.

ACTION: Notice.

SUMMARY: In accordance with the Native American Graves Protection and Repatriation Act (NAGPRA), the Housatonic Museum of Art (HMA) intends to repatriate certain cultural items that meet the definition of objects of cultural patrimony and that have a cultural affiliation with the Indian Tribes or Native Hawaiian organizations in this notice.

DATES: Repatriation of the cultural items in this notice may occur on or after September 22, 2025.

ADDRESSES: Send additional, written requests for repatriation of the cultural items in this notice to Charlotte Lefland, Housatonic Museum of Art, 900 Lafayette Boulevard, Bridgeport, CT 06604, email charlotte.lefland@ctstate.edu.

SUPPLEMENTARY INFORMATION: This notice is published as part of the National Park Service's administrative responsibilities under NAGPRA. The determinations in this notice are the sole responsibility of the HMA, and additional information on the determinations in this notice, including the results of consultation, can be found in the summary or related records. The National Park Service is not responsible for the determinations in this notice.

Abstract of Information Available

A total of 40 cultural items have been requested for repatriation. The 40 objects of cultural patrimony are masks, tools, dolls, miniature sculptures, games, baskets, fishing equipment, and clothing. These objects of cultural patrimony are all associated with the artic slope of Alaska and were donated to the HMA over the last 10-15 years. All are believed to be affiliated with the Inupiat Community of the Artic Slope. There does not appear to be any hazardous substances used to treat any of the items.

Determinations

The HMA has determined that:

• The 40 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Inupiat Community of the Artic Slope.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 22, 2025. If competing requests for repatriation are received, the HMA must determine the most appropriate requestor prior to repatriation. Requests for joint repatriation of the cultural items are considered a single request and not competing requests. The HMA is responsible for sending a copy of this notice to the Indian Tribes and Native Hawaiian organizations identified in this notice and to any other consulting parties.

Authority: Native American Graves Protection and Repatriation Act, 25 U.S.C. 3004 and the implementing regulations, 43 CFR 10.9.

Dated: August 13, 2025.
Melanie O'Brien,
Manager, National NAGPRA Program.

[FR Doc. 2025-16119 Filed 8-21-25; 8:45 am]

BILLING CODE 4312-52-P